FEDERAL MINE SAFETY AND HEALTH REVIEW COMMISSION

Sunshine Act Meeting

October 20, 2004.

Time and Date: 10 a.m., Tuesday, November 9, 2004.

Place: The Richard V. Backley Hearing Room, 9th Floor, 601 New Jersey Avenue, NW., Washington, DC.

Status: Open.

Matters to be Considered: The Commission will hear oral argument on an appeal of Eastern Associated Coal Corporation from the decision of an administrative law judge in Secretary of Labor v. Eastern Associated Coal Corporation, Docket No. WEBA 2002-46. (Issues include whether the judge properly concluded that Eastern Associated Coal Corp. violated 30 CFR 48.11(a)(3) when it did not train two independent contractor employees on the provisions of its roof control plan addressing roof grouting.)

Any person attending this meeting who requires special accessibility features and/or auxiliary aids, such as sign language interpreters, must inform the Commission in advance of those needs, subject to 29 CFR 2706.150(a)(3) and 2706.160(d).

FOR MORE INFORMATION CONTACT: Jean Ellen, (202) 434-9950/(202) 708-9300 for TDD Relay/1-800-877-8339 for toll free.

Jean H. Ellen,
Chief Docket Clerk.

[FR Doc. 04-24195 Filed 10-26-04; 11:49 am]

BILLING CODE 6735-01-M